DEPARTMENT OF TRANSPORTATION

Federal Aviation Administration

14 CFR Part 39

[Docket No. FAA-2004-19693; Directorate Identifier 2004-CE-40-AD]

RIN 2120-AA64

Airworthiness Directives; Kelly Aerospace Power Systems Part Number (P/N) 14D11, A14D11, B14D11, C14D11, 23D04, A23D04, B23D04, C23D04, or P23D04 Fuel Regulator Shutoff Valves (formerly owned by ElectroSystems, JanAero Devices, Janitrol, C&D Airmotive Products, FL Aerospace, and Midland-Ross Corporation)

AGENCY: Federal Aviation Administration (FAA), DOT.

ACTION: Notice of proposed rulemaking (NPRM).

SUMMARY: The FAA proposes to revise Airworthiness Directive (AD) 2004-25-16, which applies to aircraft equipped with a fuel regulator shutoff valve part number (P/N) 14D11, A14D11, B14D11, C14D11, 23D04, A23D04, B23D04, C23D04, or P23D04 used with B1500, B2030, B2500, B3040, B3500, B4050, or B4500 B-Series combustion heaters. AD 2004-25-16 currently requires you to repetitively inspect the fuel regulator shut shutoff valve (visually or by pressure test) for fuel leakage and replace the fuel regulator shutoff valve with an improved design replacement part with a manufacturer's date code of 02/02 or later if fuel leakage is found. AD 2004-25-16 also allows you to disable the heater as an alternative method of compliance. Since we issued AD 2004-25-16, we received several comments requesting a revision to paragraph (e)(2). Consequently, this proposed AD retains the actions required in AD 2004-25-16 and revises the requirements in paragraph (e)(2) to remove a required action. We are issuing this proposed AD to prevent failure of the fuel regulator shutoff valve, which could result in fuel leakage in aircraft with these combustion heaters. This failure could result in an aircraft fire.

DATES: We must receive any comments on this proposed AD by April 7, 2005.

ADDRESSES: Use one of the following to submit comments on this proposed AD:

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, S.W., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Kelly Aerospace Power Systems, P.O. Box 273, Fort Deposit, Alabama 36032; telephone: (334) 227-8306; facsimile: (334) 227-8596; Internet: http://www.kellyaerospace.com.

To view the comments to this proposed AD, go to http://dms.dot.gov. The docket number is FAA-2004-19693; Directorate Identifier 2004-CE-40-AD.

FOR FURTHER INFORMATION CONTACT: Kevin L. Brane, Aerospace Engineer, Atlanta Aircraft Certification Office, FAA, One Crown Center, 1985 Phoenix Boulevard, Suite 450, Atlanta, GA 30349; telephone: (770) 703-6063; facsimile: (770) 703-6097.

SUPPLEMENTARY INFORMATION:

Comments Invited

How do I comment on this proposed AD? We invite you to submit any written relevant data, views, or arguments regarding this proposal. Send your comments to an address listed under ADDRESSES. Include the docket number, “FAA-2004-19693; Directorate Identifier 2004-CE-40-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19693. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Reports of certain regulator shutoff valves leaking caused FAA to issue AD 2001-08-01, Amendment 39-12178 (66 FR 19718, April 17, 2001). AD 2001-08-1 required you to visually inspect and pressure test the fuel regulator shutoff valves for leaks and replace the fuel regulator shutoff valve if leaks were found.

The affected fuel regulator shutoff valves are part of the B1500, B2030, B2500, B3040, B3500, B4050, or B4500 combustion heater configuration.

Operators of aircraft with the affected fuel regulator shutoff valves installed and mechanics who did the actions of AD 2001-08-01 provided suggestions for improvement to the AD. Based on that feedback, FAA superseded AD 2001-08-01 with AD 2001-17-13, Amendment 39-12404 (66 FR 44027, August 22, 2001).

AD 2001-17-13 retained the actions of AD 2001-08-01, except it requires only the visual inspection or the pressure test of the fuel regulator shutoff valves (not both) and lists the affected fuel regulator shutoff valves by part number instead of series. AD 2001-17-13 also included a provision for disabling the heater as an alternative method of compliance.

The FAA continued to receive reports of problems with these fuel regulator shutoff valves. This service history reflects that the inspections should be repetitive instead of one-time. Based on this information, FAA superseded AD 2001-17-13 with AD 2004-25-16, Amendment 39-13904 (69 FR 75228, December 16, 2004).

AD 2004-25-16 retains the actions required in AD 2001-17-13, makes the inspection repetitive, and requires installing improved design replacement parts.

What has happened since AD 2004-25-16 to initiate this proposed AD action? We inadvertently retained an action from AD 2001-17-13 and made it repetitive. After each inspection of the fuel regulator shutoff valve for signs of fuel leaks and no leaks are found, AD 2004-25-16 requires the valve cover to be marked with the date of inspection.

Since AD 2004-25-16 made that inspection repetitive, it is not feasible to mark the valve cover with the date of each inspection. Therefore, we are proposing to revise AD 2004-25-16 to remove this action.

What is the potential impact if FAA took no action? This condition, if not corrected, could result in fuel leakage in aircraft with these combustion heaters, which could result in an aircraft fire with consequent damage or destruction.

FAA's Determination and Requirements of This Proposed AD

What has FAA decided? We have evaluated all pertinent information and identified an unsafe condition that is likely to exist or develop on other products of this same type design. For this reason, we are proposing AD action.

What would this proposed AD require? This proposed AD would revise AD 2004-25-16 with a new AD that would retain the actions required in AD 2004-25-16 and removes the requirement to mark the valve cover with the date of inspection as specified in paragraph (e)(2) of the AD.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

What is the cost impact of this proposed revision? Since we are proposing to revise AD 2004-25-16 to remove a required action from the previous AD, there is no cost impact for this proposed revision.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19693; Directorate Identifier 2004-CE-40-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-25-16, Amendment 39-13904 (69 FR 75228), and by adding a new AD to read as follows:

Kelly Aerospace Power Systems (formerly owned by ElectroSystems, JanAero Devices, Janitrol, C&D Airmotive Products, FL Aerospace, and Midland-Ross Corporation): Docket No. FAA-2004-19693; Directorate Identifier 2004-CE-40-AD; Revises AD 2004-25-16; Amendment 39-13904.

When Is the Last Date I Can Submit Comments on This Proposed AD?

(a) We must receive comments on this proposed airworthiness directive (AD) by April 7, 2005.

What Other ADs Are Affected by This Action?

(b) This AD revises AD 2004-25-16, Amendment 39-13904.

What Airplanes Are Affected by This AD?

(c) This AD applies to aircraft equipped with a fuel regulator shutoff valve part number (P/N) 14D11, A14D11, B14D11, C14D11, 23D04, A23D04, B23D04, C23D04, or P23D04 used with B1500, B2030, B2500, B3040, B3500, B4050, or B4500 B-Series combustion heaters. The following is a list of aircraft where the B-Series combustion heater could be installed. This is not a comprehensive list and aircraft not on this list that have the heater installed through field approval or other methods are still affected by this AD:

Manufacturer | Aircraft models/series
(1) Bombardier Inc | CL-215, CL-215T, and CLT-415.
(2) Cessna Aircraft Company | 208, T303, 310F, 310G, 310H, 310I, 310J, 310K, 310L, 310N, 310P, 310Q, 320C, 320D, 320E, 320F, 337 Series, 340, 340A, 414, 414A, 421, 421A, 421B, and 421C.
(3) The New Piper Aircraft, Inc | PA-23 Series, PA-30, PA-31 Series, PA-34 Series, PA-39, and PA-44 Series.
(4) Raytheon Aircraft Corporation | 95-B55 Series, 58, 58TC, 58P, 60, A60, and 76.

Note 1: The B1500, B2030, B2500, B3040, B3500, B4050, or B4500 B-Series combustion heaters were previously manufactured by Janitrol, C&D Airmotive Products, FL Aerospace, and Midland-Ross Corporation.

What Is the Unsafe Condition Presented in This AD?

(d) This AD is the result of numerous reports of fuel regulator shutoff valves leaking fuel. We are issuing this AD to prevent failure of the fuel regulator shutoff valve, which could result in fuel leakage in aircraft with these combustion heaters. This failure could result in an aircraft fire.

What Must I Do To Address This Problem?

(e) To address this problem, you must do the following:

Actions | Compliance | Procedures
(1) Visually inspect or pressure test the fuel regulator shutoff valve for any signs of fuel leaks | Within the next 25 hours aircraft time-in-service (TIS) after January 5, 2005 (the effective date of AD 2004-25-16), unless already done within the last 75 hours aircraft TIS (e.g., compliance with AD 2001-08-01 or 2001-17-13). Repetitively inspect thereafter at intervals not to exceed 100 hours aircraft TIS or 12 months, whichever occurs first. This is established to coincide with 100-hour and annual inspections | Locate the pressure regulator shutoff value in the installation using the applicable maintenance manual for valve location, removal, and installation instructions. Follow the procedures in Kelly Aerospace Power Systems Service Bulletin No. A-107A, Issue Date: September 6, 2002, for the visual inspection or the pressure test.
(2) If no fuel leaks or no signs of fuel stains are found during each inspection required by paragraph (e)(1) of this AD, make a log book entry with the date of inspection (month/year) | Prior to further flight after each inspection required in paragraph (e)(1) of this AD | Follow the procedures in Kelly Aerospace Power Systems Service Bulletin No. A-107A, Issue Date: September 6, 2002.
(3) If any signs of fuel leaks or any signs of fuel stains are found during any inspection required in paragraph (e)(1) of this AD, replace the valve with a new valve of appropriate part number (P/N) that has a manufacturer's date code of 02/02 or later. For Piper PA-31-350 model aircraft, replace P/N A23D04-7.5 valve with P/N P23D04-7.5 Ensure there are no fuel leaks in the replacement valve by following the inspection and documentation requirements in paragraphs (e)(1) and (e)(2) of this AD | Before further flight after the inspection where any fuel leak was found | Follow Kelly Aerospace Power Systems Service Bulletin No. A-107A, Issue Date: September 6, 2002; Piper Vendor Service Publication VSP-150, dated January 31, 2003; and the applicable maintenance manual.
(4) As an alternative method of compliance to this AD, you may disable the heater provided you immediately comply with the inspection, identification, and replacement requirements of this AD when you bring the heater back into service. Do the following actions when disabling: (i) Cap the fuel supply line upstream of the fuel regulator and shutoff valve; (ii) Disconnect the electrical power and ensure that the connections are properly secured to reduce the possibility of electrical spark or structural damage; (iii) Inspect and test to ensure that the cabin heater system is disabled; (iv) Ensure that no other aircraft system is affected by this action; (v) Ensure there are no fuel leaks; and (vi) Fabricate a placard with the words: “System Inoperative”. Install this placard at the heater control valve within the pilot's clear view. | If you choose this option, you must do it before the next required inspection specified in paragraph (e)(1) of this AD. To bring the heater back into service, you must do the actions of paragraphs (e)(1), (e)(2), and (e)(3) of this AD (inspection, identification, and replacement, as necessary) | Not Applicable.
(5) Only install a fuel regulator shutoff valve with a manufacture date code of 02/02 or later | As of January 5, 2005 (the effective date of AD 2004-25-16) | Not Applicable.

May I Request an Alternative Method of Compliance?

(f) You may request a different method of compliance or a different compliance time for this AD by following the procedures in 14 CFR 39.19.

(1) Unless FAA authorizes otherwise, send your request to your principal inspector. The principal inspector may add comments and will send your request to the Manager, Manager, Atlanta ACO, FAA. For information on any already approved alternative methods of compliance, contact Kevin L. Brane, Aerospace Engineer, Atlanta Aircraft Certification Office, FAA, One Crown Center, 1985 Phoenix Boulevard, Suite 450, Atlanta, GA 30349; telephone: (770) 703-6063; facsimile: (770) 703-6097.

(2) Alternative methods of compliance approved for AD 2004-25-16, which is revised by this AD, are approved as alternative methods of compliance with this AD.

May I Get Copies of the Documents Referenced in This AD?

(g) To get copies of the documents referenced in this AD, contact Kelly Aerospace Power Systems, P.O. Box 273, Fort Deposit, Alabama 36032; telephone: (334) 227-8306; facsimile: (334) 227-8596; Internet: http://www.kellyaerospace.com. To view the AD docket, go to the Docket Management Facility; U.S. Department of Transportation, 400 Seventh Street, SW., Nassif Building, Room PL-401, Washington, DC, or on the Internet at http://dms.dot.gov. The docket number is FAA-2004-19693; Directorate ID 2004-CE-40-AD.

Issued in Kansas City, Missouri, on March 2, 2005.
Nancy C. Lane,
Acting Manager, Small Airplane Directorate, Aircraft Certification Service.

[FR Doc. 05-4556 Filed 3-8-05; 8:45 am]

BILLING CODE 4910-13-P